DEPARTMENT OF DEFENSE

Office of the Secretary

[DOD-2007-OS-0122]

Privacy Act of 1974; Systems of Records

AGENCY: Defense Finance and Accounting Service, DOD.

ACTION: Notice to Add a New System of Records.

SUMMARY: The Defense Finance and Accounting Service (DFAS) is proposing to establish a new system of records notice to its inventory of record systems subject to the Privacy Act of 1974, (5 U.S.C. 552a), as amended.

DATES: This action will be effective without further notice on December 14, 2007 unless comments are received that would result in a contrary determination.

ADDRESSES: Send comments to the FOIA/PA Program Manager, Corporate Communications and Legislative Liaison, Defense Finance and Accounting Service, 6760 E. Irvington Place, Denver, CO 80279-8000.

FOR FURTHER INFORMATION CONTACT: Ms. Linda Krabbenhoft at (303) 676-6045.

SUPPLEMENTARY INFORMATION: The Defense Finance and Accounting Service notices for systems of records subject to the Privacy Act of 1974 (5 U.S.C. 552a), as amended, have been published in the Federal Register and are available from the address above.

The proposed system report, as required by 5 U.S.C. 552a(r) of the Privacy Act of 1974, as amended, was submitted on November 5, 2007, to the House Committee on Oversight and Government Reform, the Senate Committee on Governmental Affairs, and the Office of Management and Budget (OMB) pursuant to paragraph 4c of Appendix I to OMB Circular No. A-130, “Federal Agency Responsibilities for Maintaining Records About Individuals,” dated December 12, 2000, 65 FR 239.

Dated: November 7, 2007.
L.M. Bynum,
Alternate OSD Federal Register Liaison Officer, Department of Defense.

T7225a

System name:

Computerized Accounts Payable System (CAPS).

System location:

Defense Finance and Accounting Service (DFAS), Indianapolis, 8899 East 56th Street, Indianapolis, IN 46249-5005.

Categories of individuals covered by the system:

Commercial vendors, independent or industrial government contractors, Army Reserve, National Guard, military academy cadets, Army Reserve Officer Training Corps (ROTC) students, and DoD civilian personnel paid by appropriated funds.

Categories of records in the system:

Financial records of commercial vendors, government contractors, name, Social Security Number (SSN) or Tax Identification Number, addresses, electronic fund transfer data such as bank routing number, account number, and bank addresses, invoice or claim information submitted for payment.

Authority for maintenance of the system:

5 U.S.C. 301, Departmental Regulations, Department of Defense Financial Management Regulation (DoDFMR) 7000.14.R, Vol. 10; 31 U.S.C. Sections 3512, and 3513; and E.O. 9397 (SSN).

Purpose(s):

This system will be used to automate manual functions in the accounts payable offices such as: Automatically suspense commercial payments and follow-up letters, provide payment computations, produce vouchers and management reports, compute the payment due date, interest penalties and determine lost discounts, allow for entry and processing of purchase rates, purchase orders/contracts, and determine foreign currency rates, and maintain the Electronic fund transfer information for vendors whose contracts specify this type of payment.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To Federal Reserve banks to distribute payments made through the direct deposit system to financial organizations or their processing agents authorized by individuals to receive and deposit payments in their accounts.

To the U.S. Department of Treasury (DOT) to validate and make payments on public vouchers submitted for purchases and services.

The DoD “Blanket Routine Uses” apply to this system of records.

Policies and practices for storing, retrieving, accessing, retaining, and disposing of records in the system:

Storage:

Electronic storage media.

Retrievability:

Individual name, Social Security Number (SSN), tax identification number, contract number, invoice and payment number, Commercial and Government Entity (CAGE) and Dun and Bradstreet number (DUNS).

Safeguards:

Records are maintained in a controlled facility. Physical entry is restricted by the use of locks, guards, and is accessible only to authorized personnel. Access to records is limited to person(s) responsible for servicing the record in performance of their official duties, and who are properly screened and cleared for a need-to-know. Passwords and digital signatures are used to control access to the system data, and procedures are in place to deter and detect browsing and unauthorized access.

Retention and disposal:

Transaction records may be temporary in nature and deleted when actions are completed, superseded, obsolete, or no longer needed. Other records may be cut off at the completion of the contract or payment and destroyed 6 years and 3 months after cutoff. Records are destroyed by degaussing, shredding, or burning.

System manager(s) and address:

Defense Finance and Accounting Service, Indianapolis, Computerized Accounts Payable System Manager, 8899 East 56th Street, Indianapolis, IN 46249-5005.

Notification procedure:

Individuals seeking to determine whether information about themselves is contained in this system of records should address written inquiries to the Defense Finance and Accounting Service, Freedom of Information/Privacy Act Program Manager, Corporate Communications and Legislative Liaison, 6760 E. Irvington Place, Denver, CO 80279-8000.

Requests should contain individual's full name, Social Security Number (SSN), current address, and telephone number.

Record access procedures:

Individuals seeking access to information about themselves contained in this system of records should address written inquiries to Defense Finance and Accounting Service, Freedom of Information/Privacy Act Program Manager, Corporate Communications and Legislative Liaison, 6760 E. Irvington Place, Denver, CO 80279-8000.

Individuals should furnish full name, Social Security Number, current address, and telephone number.

Contesting record procedures:

The DFAS rules for accessing records, for contesting contents and appealing initial agency determinations are published in DFAS Regulation 5400.11-R; 32 CFR part 324; or may be obtained from Defense Finance and Accounting Service, Freedom of Information/Privacy Act Program Manager, Corporate Communications Legislative Liaison, 6760 E. Irvington Place, Denver, CO 80279-8000.

Record source categories:

From the individual concerned, and DoD Components.

Exemptions claimed for the system:

None.

[FR Doc. E7-22259 Filed 11-13-07; 8:45 am]

BILLING CODE 5001-06-P